ENVIRONMENTAL PROTECTION AGENCY

[EPA-HQ-OECA-2010-0357, FRL-9266-4]

Agency Information Collection Activities; Submission to OMB for Review and Approval; Comment Request; NSPS for Equipment Leaks of VOC in Petroleum Refineries (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before March 16, 2011.

ADDRESSES: Submit your comments, referencing docket ID number EPA-HQ-OECA-2010-0357, to (1) EPA online using www.regulations.gov (our preferred method), or by e-mail to docket.oeca@epa.gov, or by mail to: EPA Docket Center (EPA/DC), Environmental Protection Agency, Enforcement and Compliance Docket and Information Center, mail code 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Office of Compliance, Mail Code 2223A, Environmental Protection Agency, 1200 Pennsylvania Avenue, NW., Washington, DC 20460; telephone number: (202) 564-4113; fax number: (202) 564-0050, e-mail address: williams.learia@epa.gov.

SUPPLEMENTARY INFORMATION: EPA has submitted the following ICR to OMB for review and approval according to the procedures prescribed in 5 CFR 1320.12. On June 2, 2010 EPA published a notice in the Federal Register (75 FR 30813) seeking comments on this ICR pursuant to 5 CFR 1320.8(d). EPA received no comments. Any additional comments on this ICR should be submitted to EPA and OMB within 30 days of this notice.

EPA has established a public docket for this ICR under docket ID number EPA-HQ-OECA-2010-0357, which is available for public viewing online at http://www.regulations.gov, or in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to http://www.regulations.gov.

Title: NSPS for Equipment Leaks of VOC in Petroleum Refineries (Renewal).

ICR Numbers: EPA ICR Number 0983.12, OMB Control Number 2060-0067.

ICR Status: This ICR is scheduled to expire on March 31, 2011. Under OMB regulations, the Agency may continue to conduct or sponsor the collection of information while this submission is pending at OMB. An agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: This ICR is for the New Source Performance Standards (NSPS) for Equipment Leaks of VOC (Volatile Organic Compounds) in Petroleum Refineries in 40 CFR part 60, subparts GGG and GGGa. The NSPS in subpart GGG were proposed on January 4, 1983, and promulgated on May 30, 1984. These standards apply to the following facilities in petroleum refineries: compressors and the group of all equipment (e.g., valves, pumps, flanges, etc.) within a process unit in VOC service, commencing construction, modification or reconstruction after the date of proposal. Amendments that would have added new standards and compliance requirements to subpart GGG were proposed on November 7, 2006. In response to public comments, all new requirements are being incorporated in a new subpart GGGa that applies to sources that commence construction, reconstruction, or modification after November 7, 2006. The final amendments to subpart GGG involve only clarifications and additional compliance options.

Owners or operators of the affected facilities described must make one-time-only notifications. Owners or operators are also required to maintain records of the occurrence and duration of any startup, shutdown, or malfunction in the operation of an affected facility, or any period during which the monitoring system is inoperative. Monitoring requirements specific to Equipment Leaks of VOC in Petroleum Refineries provide information on which components are leaking VOCs. NSPS Subpart GGG references the compliance requirements of NSPS subpart VV; and NSPS subpart GGGa references the compliance requirements of NSPS subpart VVa. Periodically, owners or operators are required to record information identifying leaking equipment, repair methods used to stop the leaks, and dates of repair. The time period for this recordkeeping varies and depends on equipment type and leak history. Semiannual reports are required to measure compliance with the standards of NSPS Subparts VV and VVa, as referenced by NSPS subparts GGG and GGGa. These notifications, reports, and records are essential in determining compliance and in general, are required of all sources subject to NSPS. Any owner or operator subject to the provisions of this part shall maintain a file of these measurements, and retain the file for at least two years following the date of such measurements, maintenance reports, and records.

Burden Statement: The annual public reporting and recordkeeping burden for this collection of information is estimated to average 77 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Petroleum refineries.

Estimated Number of Respondents: 160.

Frequency of Response: 2 times per year.

Estimated Total Annual Hour Burden: 24,525.

Estimated Total Annual Cost: $2,319,816, which includes $2,319,816 exclusively in labor costs, with neither capital/startup costs nor operation and maintenance (O&M) costs.

Changes in the Estimates: There is an overall decrease in the number of burden labor hours and an increase in the labor hour cost. The burden hours have decreased because we anticipate that no new refineries will be built in the in the United States over the next three years. This results in a decrease in the number of labor burden hours. We also refined our estimate of the number of major refineries, which reduced the number of affected facilities.

The increase in labor hour cost is due to a recalculation of burden using current labor rates and the correction of a mathematical error.

There are no annual capital and O&M costs to the regulated entities. Capital and O&M costs are not applicable because this is a leak detection and repair program with no continuous monitoring equipment.

Dated: February 7, 2011.
John Moses,
Director, Collection Strategies Division.

[FR Doc. 2011-3275 Filed 2-11-11; 8:45 am]

BILLING CODE 6560-50-P